INTERNATIONAL TRADE COMMISSION

[Investigation No. 337-TA-924]

Certain Light Reflectors and Components, Packaging, and Related Advertising Thereof; Institution of Investigation

AGENCY: U.S. International Trade Commission.

ACTION: Notice.

SUMMARY: Notice is hereby given that a complaint was filed with the U.S. International Trade Commission on June 20, 2014, under section 337 of the Tariff Act of 1930, as amended, 19 U.S.C. 1337, on behalf of Sunlight Supply, Inc. of Vancouver, Washington and IP Holdings, LLC of Vancouver, Washington. An amended complaint was filed on July 11, 2014. A supplement to the amended complaint was filed on July 18, 2014. The amended complaint alleges violations of section 337 based upon the importation into the United States, the sale for importation, and the sale within the United States after importation of certain light reflectors and components, packaging, and related advertising thereof by reason of infringement of certain claims of U.S. Patent No. 7,641,367 (“the ’367 patent”); U.S. Design Patent No. D634,469 (“the ’469 patent”); U.S. Design Patent No. D644,185 (“the ’185 patent”); and U.S. Design Patent No. D545,485 (“the ’485 patent”), and by reason of infringement of U.S. Trademark Registration No. 3,871,765 (“the ’765 trademark”) and U.S. Trademark Registration No. 3,262,059 (“the ’059 trademark”), and that an industry in the United States exists as required by subsection (a)(2) of section 337. The amended complaint further alleges violations of section 337 based upon the importation into the United States, or in the sale of, certain light reflectors and components, packaging, and related advertising thereof by reason of false advertising, the threat or effect of which is to destroy or substantially injure an industry in the United States.

The complainants request that the Commission institute an investigation and, after the investigation, issue a general exclusion order, or in the alternative a limited exclusion order exclusion order, and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2014).

Scope of Investigation: Having considered the amended complaint, the U.S. International Trade Commission, on August 6, 2014, ordered that—

(1) Pursuant to subsection (b) of section 337 of the Tariff Act of 1930, as amended, an investigation be instituted to determine:

(a) Whether there is a violation of subsection (a)(1)(B) of section 337 in the importation into the United States, the sale for importation, or the sale within the United States after importation of certain light reflectors and components, packaging, and related advertising thereof by reason of infringement of one or more of claims 1-4 of the ’367 patent; the claim of the ’469 patent; the claim of the ’185 patent; and the claim of the ’485 patent, and whether an industry in the United States exists as required by subsection (a)(2) of section 337;

(b) whether there is a violation of subsection (a)(1)(C) of section 337 in the importation into the United States, the sale for importation, or the sale within the United States after importation of certain light reflectors and components, packaging, and related advertising thereof by reason of infringement of one or more of the ’765 trademark and the ’059 trademark, and whether an industry in the United States exists as required by subsection (a)(2) of section 337; and

(c) whether there is a violation of subsection (a)(1)(A) of section 337 in the importation into the United States, or in the sale of, certain light reflectors and components, packaging, and related advertising thereof by reason of false advertising, the threat or effect of which is to destroy or substantially injure an industry in the United States;

(2) For the purpose of the investigation so instituted, the following are hereby named as parties upon which this notice of investigation shall be served:

(a) The complainants are:

Sunlight Supply, Inc., 5408 NE 88th Street, Vancouver, WA 98665.

IP Holdings, LLC, 5408 NE 88th Street, Vancouver, WA 98665.

(b) The respondents are the following entities alleged to be in violation of section 337, and are the parties upon which the amended complaint is to be served:

Sinowell (Shanghai) Co., Ltd., Rm. 802, Bld. 2, No. 335, Guoding Road, Shanghai, 200433 China

Sinohydro Ltd., Unit D 16F, Cheuk Nang Plaza, 250 Hennessy Road, Wanchai, Hong Kong, China

Groco Enterprises, LLC, 1454 127th Place NE., Bellevue, WA 98005

Good Nature Garden Supply, 6290 Folsom Boulevard, Sacramento, CA 95819

Aqua Serene, Inc., 2836 W. 11th Avenue, Eugene, OR 97402

Aurora Innovations, Inc., 29862 E. Enid, Eugene, OR 97402

Big Daddy Garden Supply, Inc., 310 Mason Street, Ukiah, CA 95482

Bizright, LLC, 15320 Valley Boulevard, City of Industry, CA 91746

The Hydro Source II, Inc., 11760 E. Slauson Avenue, Santa Fe Springs, CA 90670

Insun, LLC, 1407 116th Avenue NE., Suite 102, Bellevue, WA 98004

Lumz'N Blooms, Ltd. Corp., 174B Semoran Commerce Place #116, Apopka, FL 32703

Parlux LP, 7522 187th Drive SE., Snohomish, WA 98290

Silversun, Inc., 11718 Hunter Lane NW., Gig Harbor, WA 98332

Zimbali Group, Inc., 2913 129th Avenue SE., Bellevue, WA 98005

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: August 7, 2014.
Lisa R. Barton,
Secretary to the Commission.

[FR Doc. 2014-19045 Filed 8-11-14; 8:45 am]

BILLING CODE 7020-02-P